DEPARTMENT OF TRANSPORTATION

Federal Railroad Administration

49 CFR Part 245

[Docket No. FRA-2022-0019, Notice No. 2]

RIN 2130-AC91

Certification of Dispatchers

AGENCY: Federal Railroad Administration (FRA), Department of Transportation (DOT).

ACTION: Notice of proposed rulemaking (NPRM); extension of comment period.

SUMMARY: On May 31, 2023, FRA published an NPRM proposing to require railroads to develop written programs for certifying individuals who work as dispatchers on their networks and to submit those written certification programs to FRA for approval prior to implementation. By this notice, FRA is extending the NPRM's comment period by 30 days.

DATES: The comment period for the NPRM, published May 31, 2023, at 88 FR 35574, scheduled to close on July 31, 2023, is extended until August 30, 2023.

ADDRESSES:

Comments: Comments related to Docket No. FRA-2022-0019, Notice No. 1, may be submitted by going to https://www.regulations.gov and following the online instructions for submitting comments.

Instructions: All submissions must include the agency name, docket name, and docket number or Regulatory Identification Number (RIN) for this rulemaking (2130-AC91). Note that all comments received will be posted without change to https://www.regulations.gov, including any personal information provided. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Curtis Dolan, Railroad Safety Specialist, Dispatch Operating Practices, telephone: (470) 522-6633 or email: curtis.dolan@dot.gov; or Michael C. Spinnicchia, Attorney Adviser, Office of the Chief Counsel, telephone: (202) 493-0109 or email: michael.spinnicchia@dot.gov.

SUPPLEMENTARY INFORMATION: In a June 16, 2023, petition, the American Short Line and Regional Railroad Association (ASLRRA) requested a 60-day extension of the NPRM's comment period.¹ ASLRRA stated it needs additional time to thoroughly obtain and review feedback from its member railroads and provide FRA with data for the NPRM's regulatory flexibility analysis.

¹ 88 FR 35574 (May 31, 2023).

The comment period for this NPRM is scheduled to close on July 31, 2023. As FRA is partially granting ASLRRA's request, the comment period is now extended to August 30, 2023, which is a total of 30 days.

Privacy Act

In accordance with 5 U.S.C. 553(c), DOT solicits comments from the public to better inform its rulemaking process. DOT posts these comments, without edit, to https://www.regulations.gov, as described in the system of records notice, DOT/ALL-14 FDMS, accessible through www.dot.gov/privacy. To facilitate comment tracking and response, we encourage commenters to provide their name, or the name of their organization; however, submission of names is completely optional. Whether or not commenters identify themselves, all timely comments will be fully considered. If you wish to provide comments containing proprietary or confidential information, please contact the agency for alternate submission instructions.

Authority: 49 U.S.C. 20103, 20107, 20162, 21301, 21304, 21311; 28 U.S.C. 2461 note; 49 CFR 1.89; and Pub. L. 110-432, sec. 402, 122 Stat. 4884.

Issued in Washington, DC.
Carolyn R. Hayward-Williams,
Director, Office of Railroad Systems and Technology.

[FR Doc. 2023-14178 Filed 7-3-23; 8:45 am]

BILLING CODE 4910-06-P